DEPARTMENT OF COMMERCE

National Oceanic and Atmospheric Administration

[RTID 0648-XE739]

Draft 2024 Marine Mammal Stock Assessment Reports

AGENCY: National Marine Fisheries Service (NMFS), National Oceanic and Atmospheric Administration (NOAA), Commerce.

ACTION: Notice; request for comments and new information.

SUMMARY: NMFS reviewed the Alaska, Atlantic, and Pacific regional marine mammal stock assessment reports (SAR) in accordance with the Marine Mammal Protection Act (MMPA). SARs for marine mammals in the Alaska, Atlantic, and Pacific regions were revised to include new information. NMFS is soliciting public comments on the draft 2024 SARs and requesting new information for strategic stocks that were not updated in 2024.

DATES: Comments must be received by June 20, 2025.

ADDRESSES: The 2024 draft SARs are available in electronic form via the internet at https://www.fisheries.noaa.gov/national/marine-mammal-protection/draft-marine-mammal-stock-assessment-reports.

You may submit comments or new information, identified by NOAA-NMFS-2025-0019, via electronic submission through the Federal e-Rulemaking Portal:

Electronic Submission: Submit all electronic public comments via the Federal e-Rulemaking Portal. Go to https://www.regulations.gov and type NOAA-NMFS-2025-0019 in the Search box (note: copying and pasting the FDMS Docket Number directly from this document may not yield search results). Click on the “Comment” icon, complete the required fields, and enter or attach your comments.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Zachary Schakner, Office of Science and Technology, 301-427-8106, Zachary.Schakner@noaa.gov; Nancy Young, 206-526-4297, Nancy.Young@noaa.gov, regarding Alaska regional stock assessments; Jessica McCordic, 508-495-2396, jessica.mccordic@noaa.gov, regarding Atlantic regional stock assessments; or Jim Carretta, 858-546-7171, Jim.Carretta@noaa.gov, regarding Pacific regional stock assessments.

SUPPLEMENTARY INFORMATION:

Background

Section 117 of the MMPA (16 U.S.C. 1361 et seq.) requires NMFS and the U.S. Fish and Wildlife Service (USFWS) to prepare stock assessments for each stock of marine mammals occurring in waters under the jurisdiction of the United States. These SARs must contain information regarding the distribution and abundance of the stock, population growth rates and trends, estimates of annual human-caused mortality and serious injury (M/SI) from all sources, descriptions of the fisheries with which the stock interacts, and the status of the stock. Initial SARs were completed in 1995.

The MMPA requires NMFS and USFWS to review the SARs at least annually for strategic stocks and stocks for which significant new information is available and at least once every three years for non-strategic stocks. The term “strategic stock” means a marine mammal stock: (A) for which the level of direct human-caused mortality exceeds the potential biological removal level or PBR (defined by the MMPA as the maximum number of animals, not including natural mortalities, that may be removed from a marine mammal stock while allowing that stock to reach or maintain its optimum sustainable population); (B) which, based on the best available scientific information, is declining and is likely to be listed as a threatened species under the Endangered Species Act (ESA) within the foreseeable future; or (C) which is listed as a threatened species or endangered species under the ESA or is designated as depleted under the MMPA. NMFS and USFWS are required to revise a SAR if the review indicates that the status of the stock has changed or can be more accurately determined.

In order to ensure that marine mammal SARs include the best scientific information available at the time of publication, the updated SARs under NMFS' jurisdiction are peer-reviewed within NMFS' Science Centers and by members of three regional independent scientific review groups established under the MMPA to independently advise NMFS and USFWS. As a result of the time involved in the assessment of new scientific information, revision, and peer-review of the SARs, the period covered by the 2024 draft SARs is generally 2018 through 2022.

NMFS reviewed the SARs of all strategic stocks and considered whether significant new information was available for all other stocks under NMFS' jurisdiction. As a result of this review, NMFS revised or developed new reports for 21 stocks in the Alaska, Atlantic, and Pacific regions. The 2024 revisions to the SARs consist primarily of updated or revised human-caused M/SI estimates and updated abundance estimates.

NMFS solicits public comments on the draft 2024 SARs. To ensure NMFS is aware of new information relevant to all strategic stocks, NMFS also requests new information for strategic stocks that were not updated in 2024. Specifically, new relevant information could include peer-reviewed information on human-caused M/SI, fishery interactions, abundance, distribution, population structure, and other information on emerging concerns for strategic stocks that could be incorporated into the SARs.

Alaska Reports

NMFS reviewed new information for 35 existing stocks (including all of the strategic stocks) in the Alaska Region for the 2024 SAR cycle and revised information for five stocks contained in five SARs under NMFS' jurisdiction: Three strategic stocks (Eastern Pacific stock of northern fur seals, Cook Inlet stock of beluga whales, and Gulf of Alaska stock of harbor porpoise) and two non-strategic stocks (Bristol Bay stock of beluga whales and Bering Sea stock of harbor porpoise). In the 2024 draft SAR, the Bering Sea stock of harbor porpoise is no longer considered “strategic,” as a result of an analysis using new guidance (NMFS 2023) on determining strategic status when a minimum population abundance estimate is unavailable and information on human-caused M/SI is incomplete. Information on the remaining Alaska region stocks can be found in the final 2023 SARs (Young et al. 2024).

A list of the new or revised SARs in 2024 for the Alaska region is presented in table 1.

Table 1—List of Marine Mammal SARs in the Alaska Region Revised in 2024
Strategic stocks | Non-strategic stocks
• Northern fur seal, Eastern Pacific * • Beluga whale, Cook Inlet * • Harbor porpoise, Gulf of Alaska | • Beluga whale, Bristol Bay.* • Harbor porpoise, Bering Sea.
* Includes updated abundance estimates.

Atlantic Reports

In 2024, NMFS reviewed all stocks in the Atlantic region under NMFS' jurisdiction for new information. Eleven stocks from the Western North Atlantic were revised (table 2), primarily with updated abundance estimates, and some were also updated with recent bycatch estimates. NMFS is not revising the SAR for the Gulf of Maine stock of humpback whales. Since the last revision of this SAR in 2019, NMFS has been reviewing and considering the implications of recent information on stock structure of humpback whales in the North Atlantic. In addition, NMFS is not revising the North Atlantic right whale (NARW) SAR since the final 2023 NARW SAR (89 FR 104989, Dec. 26, 2024) incorporated best available scientific information available to date on NARW population abundance and human-caused mortality and serious injury of the stock. While not yet reflected in the draft 2024 SAR revisions, pursuant to Executive Order 14172 Restoring Names that Honor American Greatness (January 20, 2025), NMFS will be revising relevant SARs to reflect the renaming of the “Gulf of Mexico” to the “Gulf of America” in future SAR revisions.

A list of the new or revised SARs in 2024 for the Atlantic region is presented in table 2. Information on the remaining Atlantic region stocks can be found in the final 2023 SARs (Hayes et al. 2024).

Table 2—List of Marine Mammal SARs in the Atlantic Region Revised in 2024
Strategic stocks | Non-strategic stocks
• WNA # common bottlenose dolphin, Biscayne Bay Stock * • WNA Tamanend's bottlenose dolphin, South Carolina/Georgia Coastal Stock ² • WNA Tamanend's bottlenose dolphin, Northern Florida Coastal Stock * • WNA Tamanend's bottlenose dolphin, Central Florida Coastal Stock * | • Harbor porpoise, Gulf of Maine/Bay of Fundy.* • Cuvier's beaked whale, Western North Atlantic. • Blainville's beaked whale, Western North Atlantic. • Gervais' beaked whale, Western North Atlantic. • Sowerby's beaked whale, Western North Atlantic. • True's beaked whale, Western North Atlantic. • Gray seal, Western North Atlantic.*
# Western North Atlantic = WNA.
* Includes updated abundance estimates.

Pacific Reports

In 2024, NMFS reviewed all 85 stocks in the Pacific region (waters along the U.S. West Coast, within waters surrounding the main and Northwestern Hawaiian Islands, and within waters surrounding U.S. territories in the Western Pacific) for new information and revised five stocks contained in five SARs under NMFS' jurisdiction: three strategic stocks (Monk seal, Guadalupe fur seal, and Eastern North Pacific Southern Resident killer whale) and two non-strategic stocks (California breeding Northern elephant seal and California Northern fur seal). A list of revised SARs in 2024 for the Pacific region is presented in table 3. Information on the remaining Pacific region stocks can be found in the final 2023 SARs (Carretta et al. 2024).

Table 3—List of Marine Mammal SARs in the Pacific Region Revised in 2024
Strategic stocks | Non-strategic stocks
• Monk seal, Hawai'i * • Killer whale, Eastern North Pacific Southern Resident * • Guadalupe fur seal * | • Northern elephant seal, California breeding stock.* • Northern fur seal, California stock.*
* Includes updated abundance estimates.

References

Carretta et al. 2024. U.S. Pacific marine mammal stock assessments: 2023. U.S. Department of Commerce, NOAA Technical Memorandum NMFS-SWFSC-704.2024

Hayes, S.A., E. Josephson, K. Maze-Foley, P.E. Rosel, and J. McCordic, eds. 2024. U.S. Atlantic and Gulf of Mexico marine mammal stock assessments 2023. NOAA Tech. Memo. NMFS-NE-321, 375 p.

National Marine Fisheries Service (NMFS). 2023a. Guidelines for preparing stock assessment reports pursuant to the Marine Mammal Protection Act. Protected Resources Policy 02-038-01. Available online: https://www.fisheries.noaa.gov/s3/2023-05/02-204-01-Final-GAMMS-IV-Revisions-clean-1-kdr.pdf. Accessed September 2024.

Young, N.C., Brower, A.A., Muto, M.M., Freed, J.C., Angliss, R.P., Friday, N.A., Birkemeier, B.D., Boveng, P.L., Brost, B.M., Cameron, M.F., Crance, J.L., Dahle, S.P., Fadely, B.S., Ferguson, M.C., Goetz, K.T., London, J.M., Oleson, E.M., Ream, R.R., Richmond, E.L., Shelden, K.E. W., Sweeney, K.L., Towell, R.G., Wade, P.R., Waite, J.M., and Zerbini, A.N. 2024. Alaska marine mammal stock assessments, 2023. U.S. Dep. Commer., NOAA Tech. Memo. NMFS-AFSC-XXX, 327 p.

Dated: March 17, 2025.
Evan Howell,
Director, Office of Science and Technology, National Marine Fisheries Service.

[FR Doc. 2025-04861 Filed 3-20-25; 8:45 am]

BILLING CODE 3510-22-P